NUCLEAR REGULATORY COMMISSION

10 CFR Part 72

RIN 3150-AG66

List of Approved Spent Fuel Storage Casks: TN-32 Revision, Confirmation of Effective Date

AGENCY: Nuclear Regulatory Commission.

ACTION: Direct final rule; confirmation of effective date.

SUMMARY: The Nuclear Regulatory Commission (NRC) is confirming the effective date of February 20, 2001, for the direct final rule that appeared in the Federal Register of December 5, 2000 (65 FR 75853). Amendment No. 1 to the Transnuclear, Inc., TN-32 Certificate of Compliance (CoC) includes the addition of the B&W/FCF 17 × 17 Mark BW assembly to the Technical Specification for “Fuel to be stored in the Trans TN-32 Cask,” with revised bounding characteristics, and (2) a revised TS for “Site Specific Parameters and Analysis,” to allow analysis of verification of allowable seismic loads. This direct final rule amended the NRC's regulations to allow holders of power reactor operating licenses to store spent fuel in the cask under the revised conditions. This document confirms the effective date.

DATES: The effective date of February 20, 2001 is confirmed for this direct final rule.

ADDRESSES: Documents related to this rulemaking, including comments received, may be examined at the NRC Public Document Room, 11555 Rockville Pike, Rockville, MD. These same documents may also be viewed and downloaded electronically via the rulemaking website (http://ruleforum.llnl.gov). For information about the interactive rulemaking website, contact Ms. Carol Gallagher (301) 415-5905; e-mail CAG@nrc.gov.

FOR FURTHER INFORMATION CONTACT: Roger W. Broseus, Office of Nuclear Materials Safety and Safeguards, U.S. Nuclear Regulatory Commission, Washington, DC 20555-0001. Telephone (301) 415-7608 (E-mail: rwb@nrc.gov).

SUPPLEMENTARY INFORMATION: On December 5, 2000 (65 FR 75853), the NRC published in the Federal Register a direct final rule amending its regulations in 10 CFR part 72 to allow holders of power reactor operating licenses to store spent fuel in the cask Transnuclear, Inc., under revised conditions. Amendment No. 1 to the TN-32 Certificate of Compliance (CoC) includes the addition of the B&W/FCF 17×17 Mark BW assembly to the Technical Specification for “Fuel to be stored in the TN-32 Cask,” with revised bounding characteristics, and (2) a revised TS for “Site Specific Parameters and Analysis,” to allow analysis of verification of allowable seismic loads. In the direct final rule, NRC stated that if no significant adverse comments were received, the direct final rule would become final on the date noted above. The NRC did not receive any comments that warranted withdrawal of the direct final rule. Therefore, this rule will become effective as scheduled.

Dated at Rockville, Maryland, this 5th day of February, 2001.
For the Nuclear Regulatory Commission.
Michael T. Lesar,
Acting Chief, Rules and Directives Branch, Division of Administrative Services, Office of Administration.

[FR Doc. 01-3955 Filed 2-15-01; 8:45 am]

BILLING CODE 7590-01-P